DEPARTMENT OF COMMERCE

Submission for OMB Review; Comment Request

DOC has submitted to the Office of Management and Budget (OMB) for clearance the following proposal for collection of information under the provisions of the Paperwork Reduction Act (44 U.S.C. chapter 35).

Agency: Census Bureau.

Title: Survey of Housing Starts, Sales, and Completions.

Form Number(s): SOC-QI/SF.1, SOC-QI/MF.1.

Agency Approval Number: 0607-0110.

Type of Request: Extension of a currently approved collection.

Burden: 9,395 hours.

Number of Respondents: 26,000.

Avg Hours Per Response: 5 minutes.

Needs and Uses: The U.S. Census Bureau is requesting an extension of the currently approved collection for the Survey of Housing Starts, Sales, and Completions, also known as the Survey of Construction (SOC).

Government agencies and private companies use statistics from the SOC to monitor and evaluate the large and dynamic housing construction industry. From the SOC, three principal economic indicators are produced: Housing Starts, New Home Sales, and Housing Completions. In addition, a number of other statistical series are produced, including extensive information on the physical characteristics of new residential buildings, and indexes measuring rates of inflation in the price of new buildings. These statistics are based on a sample of residential buildings in permit-issuing places and a road canvass in a sample of land areas not covered by building permit systems.

We mail survey forms to the respondents to complete. A few days later, field representatives either call or visit the respondents to enter their survey responses into a laptop computer using Computer Assisted Personal Interviewing (CAPI). Approximately 26,000 buildings are selected in the sample each year. The Builder, real estate agent, rental agent, or new home owner is contacted an average of 4.34 times (at monthly intervals) over the course of the building project.

Affected Public: Businesses or other for-profit organizations.

Frequency: Monthly.

Respondent's Obligation: Voluntary.

Legal Authority: Title 13 U.S.C., Section 182.

OMB Desk Officer: Susan Schechter, (202) 395-5103.

Copies of the above information collection proposal can be obtained by calling or writing Linda Engelmeier, DOC Forms Clearance Officer, (202) 482-3272, Department of Commerce, room 5033, 14th and Constitution Avenue, NW, Washington, DC 20230 (or via the Internet at LEngelme@doc.gov).

Written comments and recommendations for the proposed information collection should be sent within 30 days of publication of this notice to Susan Schechter, OMB Desk Officer, room 10201, New Executive Office Building, Washington, DC 20503.

Dated: May 23, 2000.
Madeleine Clayton,
Management Analyst, Office of the Chief Information Officer.

[FR Doc. 00-13297 Filed 5-25-00; 8:45 am]

BILLING CODE 3510-07-P